SECURITIES AND EXCHANGE COMMISSION

[File No. 500-1]

In the Matter of Infinex Ventures, Inc.; Order of Suspension of Trading

September 30, 2016.

It appears to the Securities and Exchange Commission that there is a lack of current and accurate information concerning the securities of Infinex Ventures, Inc. (CIK No. 0001076310) (“Infinex”) because of questions regarding the accuracy of statements in Infinex reports posted on the OTC Link operated by OTC Markets Group, Inc. and in company press releases. This includes concerns that, between May 5 and September 17, 2014, Infinex appears to have made false and misleading statements concerning its operations and financial condition, its acquisition of Marijuana Funding, Inc., and its rights to financing to develop a marijuana business. Since that time, Infinex does not appear to have made any information publicly available about itself. Infinex is a Nevada corporation whose corporate status is listed as revoked by the Nevada Secretary of State. Its principal place of business is in Denver, Colorado. Infinex's stock is quoted on OTC Link, under the ticker symbol INFX.

The Commission is of the opinion that the public interest and the protection of investors require a suspension of trading in the securities of the above-listed company.

Therefore, it is ordered, pursuant to Section 12(k) of the Securities Exchange Act of 1934, that trading of the securities of the above-listed company is suspended for the period from 9:30 a.m. EDT on September 30, 2016 through 11:59 p.m. EDT on October 13, 2016.

By the Commission.
Jill M. Peterson,
Assistant Secretary.

[FR Doc. 2016-24061 Filed 9-30-16; 4:15 pm]

BILLING CODE 8011-01-P